DEPARTMENT OF AGRICULTURE

Forest Service

National Urban and Community Forestry Advisory Council

AGENCY: Forest Service, USDA.

ACTION: Notice; Announcement for the 2011 U.S. Forest Service Urban and Community Forestry Challenge Cost Share Grant Opportunity.

SUMMARY: The National Urban and Community Foresty Advisory Council, (NUCFAC), is charged, by law, to provide recommendations to the Secretary of Agriculture on urban forestry related issues and opportunities. Part of the Council's role is to recommend the criteria for the Forest Service's Urban and Community Forestry, (U&CF) Challenge Cost Share Grant Program.

The NUCFAC has revised the criteria for the Forest Service's U&CF Challenge Cost Share Grant Program for 2011. The 2011 U&CF Challenge Cost Share Grant Program will solicit innovative grant proposals. A total anticipated amount of $855,000 would be available in 2011 for Innovation Grants.

Innovation Grants

Innovation grants are to focus on one of the Council's identified priority issues confronting the UC&F community: Climate Change, Public Health, and Economic Development.

The NUCFAC will seek proposals from organizations and partnerships that demonstrate the reach, resources and expertise to deliver meaningful, replicable results.

DATES: Applications are available electronically at the following Web site, http://www.grants.gov, due by 11:59 p.m., November 29, 2010.

Those that do not have access to a computer may request a hardcopy of the application and instructions by contacting Nancy Stremple at the address below.

ADDRESSES: Written comments concerning this announcement should be addressed to Nancy Stremple, Executive Staff to National Urban and Community Forestry Advisory Council, 201 14th St., SW., Yates Building (1 Central) MS-1151, Washington, DC 20250-1151. Comments may also be sent via e-mail to nstremple@fs.fed.us, or via facsimile to 202-690-5792

All comments, including names and addresses when provided, are placed in the record and are available for public inspection and copying. The public may inspect comments received at 201 14th St., SW., Yates Building (1 Central) MS-1151, Washington, DC 20250-1151. Visitors are encouraged to call ahead to 202-205-1054 to facilitate entry into the building.

FOR FURTHER INFORMATION CONTACT: Nancy Stremple, Executive Staff or the U&CF Staff Assistant to National Urban and Community Forestry Advisory Council, 201 14th St., SW., Yates Building (1 Central) MS-1151, Washington, DC 20250-1151, phone 202-205-1054.

Individuals who use telecommunication devices for the deaf (TDD) may call the Federal Information Relay Service (FIRS) at 1-800-877-8339 between 8 a.m. and 8 p.m., Eastern, Monday through Friday.

SUPPLEMENTARY INFORMATION: The 2011 Forest Service Urban and Community Forestry Challenge Cost Share Grant instructions and application are posted on http://www.grants.gov. Only the instructions will be posted on the U.S. Forest Service Web sites at: http://www.fs.fed.us/ucf.

If interested applicants are not already registered in grants.gov, they are encouraged to register now. The process may take up to two weeks to collect the required information.

Dated: September 17, 2010.
Robin L. Thompson,
Associate Deputy Chief, State and Private Forestry.

[FR Doc. 2010-23763 Filed 9-22-10; 8:45 am]

BILLING CODE 3410-11-P